NUCLEAR REGULATORY COMMISSION

10 CFR Parts 25 and 95

RIN 3150-AH52

Broadening Scope of Access Authorization and Facility Security Clearance Regulations: Withdrawal of Direct Final Rule

AGENCY: Nuclear Regulatory Commission.

ACTION: Direct final rule; withdrawal.

SUMMARY: The Nuclear Regulatory Commission (NRC) is withdrawing a direct final rule that would have broadened the scope of the regulations to include persons who may need access to classified information in connection with licensing and regulatory activities under the regulations that govern the disposal of high-level radioactive waste in geologic repositories, and persons who may need access to classified information in connection with other activities as the Commission may determine, such as vendors of advanced reactor designs. In addition, this direct final rule would have broadened the scope of the regulations applicable to procedures for obtaining facility security clearances. The NRC is withdrawing this direct final rule because it has received significant adverse comments in response to an identical proposed rule which was published concurrently with the direct final rule.

FOR FURTHER INFORMATION CONTACT: Dr. Anthony N. Tse, Office of Nuclear Material Safety and Safeguards, U.S. Nuclear Regulatory Commission, Washington, DC 20555, telephone (301) 415-6233 (e-mail ant@nrc.gov).

SUPPLEMENTARY INFORMATION: On December 15, 2004 (69 FR 74949), the NRC published in the Federal Register a direct final rule that would have amended NRC's regulations to broaden the scope of the regulations (10 CFR Part 25) applicable to persons who may require access to classified information, to include persons who may need access in connection with licensing and regulatory activities under the regulations that govern the disposal of high-level radioactive waste in geologic repositories, and persons who may need access in connection with other activities as the Commission may determine, such as vendors of advanced reactor designs. This direct final rule would also have broadened the scope of the regulations applicable to procedures for obtaining facility security clearances (10 CFR Part 95). The direct final rule was to become effective on February 28, 2005. The NRC concurrently published an identical proposed rule on December 15, 2004 (69 FR 75007).

In the direct final rule, NRC stated that if any significant adverse comments were received, a notice of timely withdrawal of the direct final rule would be published in the Federal Register. As a result, the direct final rule would not take effect.

The NRC received significant adverse comments on the direct final rule; therefore, the NRC is withdrawing the direct final rule. As stated in the December 15, 2004, direct final rule, NRC will address the comments received on the companion proposed rule in a subsequent final rule. The NRC will not initiate a second comment period on this action.

Dated at Rockville, Maryland, this 17th day of February, 2005.
For the Nuclear Regulatory Commission.
Luis A. Reyes,
Executive Director for Operations.

[FR Doc. 05-3489 Filed 2-23-05; 8:45 am]

BILLING CODE 7590-01-P